DEPARTMENT OF THE INTERIOR

Fish and Wildlife Service

50 CFR Part 17

[Docket No. FWS-R8-ES-2013-0133; 4500030113]

RIN 1018-AY78

Endangered and Threatened Wildlife and Plants; Remove the Modoc Sucker From the Federal List of Endangered and Threatened Wildlife

AGENCY: Fish and Wildlife Service, Interior.

ACTION: Proposed rule; reopening of comment period.

SUMMARY: We, the U.S. Fish and Wildlife Service (Service), announce the reopening of the public comment period on our February 13, 2014, proposed rule to remove the Modoc sucker (Catostomus microps) from the Federal List of Endangered and Threatened Wildlife. This action allows us to accept and consider additional public comments on the proposed rule. Comments previously submitted need not be resubmitted, as they will be fully considered in preparation of the final listing determination.

DATES: We will consider comments received or postmarked on or before March 16, 2015. Comments submitted electronically using the Federal eRulemaking Portal (see ADDRESSES section, below) must be received by 11:59 p.m. Eastern Time on the closing date. Any comments that we receive after the closing date may not be considered in the final decision on this action.

ADDRESSES: Document availability: You may obtain a copy of the proposed rule and associated documents on the Internet at http://www.regulations.gov at Docket No. FWS-R8-ES-2013-0133, or by contacting the U.S. Fish and Wildlife Service, Klamath Falls Fish and Wildlife Office (see FOR FURTHER INFORMATION CONTACT).

Comment submission: You may submit comments by one of the following methods:

(1) Electronically: Go to the Federal eRulemaking Portal: http://www.regulations.gov. In the Search box, enter FWS-R8-ES-2013-0133, which is the docket number for this rulemaking. Then, click the Search button. In the Search panel on the left side of the screen, under the Document Type heading, click on the box next to “Proposed Rule” to locate this document. You may submit a comment by clicking on “Comment Now!”

(2) By hard copy: Submit by U.S. mail or hand-delivery to: Public Comments Processing, Attn: FWS-R8-ES-2013-0133; Division of Policy and Directives Management; U.S. Fish and Wildlife Service, MS: BPHC; 5275 Leesburg Pike; Falls Church, VA 22041-3803.

We request that you send comments only by the methods described above. We will post all comments on http://www.regulations.gov. This generally means that we will post any personal information you provide us (see the Information Requested section, below, for more information).

FOR FURTHER INFORMATION CONTACT: Laurie Sada, Field Supervisor, U.S. Fish and Wildlife Service, Klamath Falls Fish and Wildlife Office, 1936 California Avenue, Klamath Falls, OR 97601; telephone 541-885-8481; or facsimile 541-885-7837.

SUPPLEMENTARY INFORMATION:

Background

On February 13, 2014, we published in the Federal Register (79 FR 8656) a proposed rule to remove the Modoc sucker from Federal List of Endangered and Threatened Wildlife due to information suggesting that the species no longer needs protections under the Endangered Species Act of 1973, as amended (Act; 16 U.S.C. 1531 et seq.). A completed scientific analysis of the biological information and threats facing the Modoc sucker is presented in detail in the Modoc Sucker Species Report (Service 2013, entire), which is available at http://www.regulations.gov at Docket No. FWS-R8-ES-2013-0133. The Species Report was prepared by Service biologists to provide thorough discussion of the species' ecology and biological needs, and to provide an analysis of the threats that may be impacting the species.

In order to comply with the public notification requirements of the Act under section 4(b)(5)(D) and to ensure that the public has an adequate opportunity to review and comment on our proposal, we are reopening the comment period on the proposed rule for an additional 30 days (see DATES, above).

Information Requested

We intend that any final action resulting from the proposed rule will be based on the best scientific and commercial data available and be as accurate and complete as possible. Therefore, we request comments or information from other concerned Federal and State agencies, the scientific community, or any other interested party concerning the proposal to remove the Modoc sucker from the Federal List of Endangered and Threatened Wildlife. Please see the Information Requested section of the February 13, 2014, proposed rule (79 FR 8656) for a list of the information and comments that we particularly seek.

If you previously submitted comments or information on the proposed rule, please do not resubmit them. We have incorporated them into the public record, and we will fully consider them in our final rulemaking. Our final determination concerning the proposed rule will take into consideration all written comments and any additional information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed rule, will be available for public inspection on http://www.regulations.gov, or by appointment, during normal business hours, at the U.S. Fish and Wildlife Service, Klamath Falls Fish and Wildlife Office (see FOR FURTHER INFORMATION CONTACT).

Authority

The authority for this action is the Endangered Species Act of 1973, as amended (16 U.S.C. 1531 et seq.).

Dated: February 2, 2015.
Stephen Guertin,
Acting Director, U.S. Fish and Wildlife Service.

[FR Doc. 2015-02928 Filed 2-12-15; 8:45 am]

BILLING CODE 4310-55-P